DEPARTMENT OF TRANSPORTATION

Federal Aviation Administration

14 CFR Part 39

[Docket No. FAA-2015-3732; Directorate Identifier 2015-NE-25-AD; Amendment 39-18431; AD 2016-05-13]

RIN 2120-AA64

Airworthiness Directives; Pratt & Whitney Canada Corp. Turboprop Engines

AGENCY: Federal Aviation Administration (FAA), DOT.

ACTION: Final rule.

SUMMARY: We are adopting a new airworthiness directive (AD) for certain Pratt & Whitney Canada Corp. (P&WC) PT6A-60AG, -65AG, -67AF, and -67AG turboprop engines. This AD requires removing Woodward fuel control units (FCUs) and installing an FCU that is eligible for installation. This AD was prompted by incidents of corrosion and perforation of the two-ply Cu-Be bellows in Woodward FCUs. We are issuing this AD to prevent failure of the Woodward FCU and engine, in-flight shutdown, and loss of control of the airplane.

DATES: This AD becomes effective April 22, 2016.

The Director of the Federal Register approved the incorporation by reference of certain publications listed in this AD as of April 22, 2016.

ADDRESSES: For service information identified in this AD, contact Pratt & Whitney Canada Corp., 1000 Marie-Victorin, Longueuil, Quebec, Canada, J4G 1A1; phone: 800-268-8000; fax: 450-647-2888; Internet: www.pwc.ca. You may view this service information at the FAA, Engine & Propeller Directorate, 1200 District Avenue, Burlington, MA. For information on the availability of this material at the FAA, call 781-238-7125. It is also available on the Internet at http://www.regulations.gov by searching for and locating Docket No. FAA-2015-3732.

Examining the AD Docket

You may examine the AD docket on the Internet at http://www.regulations.gov by searching for and locating Docket No. FAA-2015-3732; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Besian Luga, Aerospace Engineer, Engine Certification Office, FAA, Engine & Propeller Directorate, 1200 District Avenue, Burlington, MA 01803; phone: 781-238-7750; fax: 781-238-7199; email: besian.luga@faa.gov.

SUPPLEMENTARY INFORMATION:

Discussion

We issued a notice of proposed rulemaking (NPRM) to amend 14 CFR part 39 by adding an AD that would apply to the specified products. The NPRM was published in the Federal Register on November 10, 2015 (80 FR 69623). The NPRM proposed to correct an unsafe condition for the specified products. The MCAI states:

There have been in-service incidents involving corrosion and perforation of the two-ply Cu-Be bellows in Woodward Fuel Control Units (FCU) fitted to PT6A-60, -65 and -67 series engines. In certain instances, associated bellows leakage has resulted in loss of engine power, in-flight shutdowns (IFSD) and even accidents. Engines installed on the aeroplanes that are used for crop dusting, due to the operational environment, are more susceptible to corrosion damage to the subject bellows.

Loss of engine power or shut down in flight by itself usually is not considered a catastrophic event. However, on an aeroplane with single engine installation, an engine power loss or IFSD at a critical phase of flight could adversely affect the safe operation of the aeroplane.

Comments

We gave the public the opportunity to participate in developing this AD. We received no comments on the NPRM (80 FR 69623, November 10, 2015).

We updated the revision number and date of P&WC Service Bulletin No. PT6A-72-14389.

Conclusion

We reviewed the available data and determined that air safety and the public interest require adopting this AD with the changes described previously. We determined that these changes will not increase the economic burden on any operator or increase the scope of this AD.

Related Service Information Under1 CFR Part 51

P&WC has issued Service Bulletin (S.B.) No. PT6A-72-14389, Revision No. 4, dated February 3, 2016 (P&WC S.B. No. 14389R4) and S.B. No. PT6A-72-13473, Revision No. 1, dated May 26, 2015 (P&WC S.B. No. 13473R1). The service information describes procedures for replacing Woodward FCUs. This service information is reasonably available because the interested parties have access to it through their normal course of business or by the means identified in the ADDRESSES section of this final rule.

Costs of Compliance

We estimate that this AD affects 341 engines installed on airplanes of U.S. registry. We also estimate that it will take about 1.5 hours per engine to comply with this AD. The average labor rate is $85 per hour. Required parts cost about $1,000 per engine. Based on these figures, we estimate the cost of this AD on U.S. operators to be $384,478.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-05-13 Pratt & Whitney Canada Corp. (Type Certificate previously held by Pratt & Whitney Canada, Inc., Pratt & Whitney Aircraft of Canada, Ltd., and United Aircraft of Canada, Ltd.): Amendment 39-18431; Docket No. FAA-2015-3732; Directorate Identifier 2015-NE-25-AD.

(a) Effective Date

This AD becomes effective April 22, 2016.

(b) Affected ADs

None.

(c) Applicability

This AD applies to Pratt & Whitney Canada Corp. (P&WC) PT6A-60AG, BS919 and BS1048 with pre-Service Bulletin (S.B.) No. PT6A-72-13402, dated August 12, 2005 configuration; PT6A-65AG, BS708, BS903, BS1101, and BS1102 with pre-S.B. No. PT6A-72-13408, dated July 3, 2006 configuration; PT6A-67AF; and PT6A-67AG turboprop engines with Woodward fuel control units (FCUs), installed.

(d) Reason

This AD was prompted by incidents of corrosion and perforation of the two-ply Cu-Be bellows in Woodward FCUs. We are issuing this AD to prevent failure of the Woodward FCU and engine, in-flight shutdown, and loss of control of the airplane.

(e) Actions and Compliance

Comply with this AD within the compliance times specified, unless already done.

(1) For P&WC PT6A-67AF and PT6A-67AG engines, within 500 flight hours (FHs) or one year after the effective date of this AD, whichever occurs first, replace the Woodward FCU. Use paragraphs 3.A. and 3.C. of P&WC S.B. No. PT6A-72-14389, Revision No. 4, dated February 3, 2016 to replace the FCU.

(2) For P&WC PT6A-60AG BS919 and BS1048 engines with pre-S.B. No. PT6A-72-13402 configurations, within 36 months after the effective date of this AD, replace the Woodward FCU. Use paragraph 3.C.(1) and 3.C.(3) of P&WC S.B. No. PT6A-72-13473, Revision No. 1, dated May 26, 2015 to replace the FCU.

(3) For P&WC PT6A-65AG BS708, BS903, BS1101, and BS1102 engines with pre-S.B. No. PT6A-72-13408 configurations, within 36 months after the effective date of this AD, replace the Woodward FCU. Use paragraphs 3.A.(1) and 3.A.(3) of P&WC S.B. No. PT6A-72-13473, Revision No. 1, dated May 26, 2015 to replace the FCU.

(f) Credit for Previous Actions

You may take credit for the actions required by paragraph (e) of this AD if you performed the actions before the effective date of this AD in accordance with P&WC S.B. No. PT6A-72-14389, Revision No. 3, dated January 27, 2011; or S.B. No. PT6A-72-13473, dated March 12, 2015; or S.B. No. PT6A-72-13408, Revision No. 1, dated March 12, 2015; or earlier versions.

(g) Alternative Methods of Compliance (AMOCs)

The Manager, Engine Certification Office, FAA, may approve AMOCs for this AD. Use the procedures found in 14 CFR 39.19 to make your request. You may email your request to: ANE-AD-AMOC@faa.gov.

(h) Related Information

(1) For more information about this AD, contact Besian Luga, Aerospace Engineer, Engine Certification Office, FAA, Engine & Propeller Directorate, 1200 District Avenue, Burlington, MA 01803; phone: 781-238-7750; fax: 781-238-7199; email: besian.luga@faa.gov.

(2) Refer to MCAI Transport Canada AD CF-2015-23, dated July 23, 2015, for more information. You may examine the MCAI in the AD docket on the Internet at http://www.regulations.gov by searching for and locating it in Docket No. FAA-2015-3732. You may examine the MCAI in the AD docket on the Internet at http://www.regulations.gov/#!documentDetail;D=FAA-2015-3732-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Pratt & Whitney Canada (P&WC) Service Bulletin (S.B.) No. PT6A-72-14389, Revision No. 4, dated February 3, 2016 (P&WC S.B. No. 14389R4).

(ii) P&WC S.B. No. PT6A-72-13473, Revision No. 1, dated May 26, 2015 (P&WC S.B. No. 13473R1).

(3) For P&WC service information identified in this AD, contact Pratt & Whitney Corp., 1000 Marie-Victorin, Longueuil, Quebec, Canada, J4G 1A1; phone: 800-268-8000; fax: 450-647-2888; Internet: www.pwc.ca.

(4) You may view this service information at FAA, Engine & Propeller Directorate, 1200 District Avenue, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on March 2, 2016.
Colleen M. D'Alessandro,
Manager, Engine & Propeller Directorate, Aircraft Certification Service.

[FR Doc. 2016-06124 Filed 3-17-16; 8:45 am]

BILLING CODE 4910-13-P